DEPARTMENT OF THE TREASURY

Bureau of Engraving and Printing

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Engraving and Printing within the Department of the Treasury is soliciting comments concerning the Owner's Affidavit of Partial Destruction of Mutilated Currency.

SUPPLEMENTARY INFORMATION: Title: Owner's Affidavit of Partial Destruction of Mutilated Currency.

OMB Number: 1520-0001.

Form Number: BEP 5283.

Abstract: This is a request for an extension.

Current Action: The Office of Currency Standards, Mutilated Currency Division, Bureau of Engraving and Printing request owners of partially destroyed U.S. currency to complete a notarized affidavit (BEP 5283) for each claim submitted when substantial portions of notes are missing.

Type of Review: Extension.

Affected Public: Individuals or households.

Estimated Number of Respondents: The estimated number of respondents for the next three years is 180, with a total estimated number of burden hours of 90.

Estimated Total Annual Burden Hours: The estimated number of annual burden hours is 270.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: May 3, 2002.
Pamela Grayson,
Management Analyst, Office of Budget and Strategic Planning, Bureau of Engraving and Printing.

[FR Doc. 02-16414 Filed 6-28-02; 8:45 am]

BILLING CODE 4840-01-M